NATIONAL COUNCIL ON DISABILITY

Sunshine Act Meetings

TIME AND DATE: The Members of the National Council on Disability (NCD) will hold a two-day in-person Council meeting on Thursday, January 22, 2026, 9:00 a.m.-3:25 p.m. Eastern Standard Time (EST) and Friday, January 23, 2026, 9:00-12:00 p.m.

PLACE: This meeting will take place at the Rosen Shingle Creek Orlando, 9939 Universal Blvd., Orlando, Florida 32819. The event will also be streamed live via Zoom videoconference for those not able to attend in person. Details are available on NCD's event page at https://www.ncd.gov/meeting/2026-01-22-jan-22-23-2026-council-meeting/.

MATTERS TO BE CONSIDERED:

Day 1—Following welcome remarks by Vice Chair/Acting Chair, Shawn Kennemer, and introductions, the Council will receive a policy update, followed by a panel discussion on institutionalization of youth in nursing homes and a public comment period for input, in person and by Zoom, on youth in nursing homes. After a break, there will be a panel of Floridians with disabilities describing their experience; lastly, there will be a presentation on NCD's disability competency curriculum project for medical professionals, followed by a Council discussion.

es during and safter recent natural disasters, followed by a public comment period for Floridians to provide their experiences in person and by Zoom. After a lunch break, the meeting will resume with a panel discussion on barriers and innovations in accessible transportation in Florida followed by a Council discussion.

Day 2—Following welcoming remarks, the Council will receive the Chairman's report; Council member's individual reports; an Executive Committee report; and a legislative and media update; a presentation on NCD's disability competency curriculum project for medical professionals, followed by a Council discussion; a presentation on a study of HCBS denials in Florida, followed by a Council question. We conclude the meeting with an award presentation for NCD Council Member/Former Chair Neil Romano.

Agenda: The times provided below are approximations (all Eastern Standard Time):

Thursday, January 22, 2026

9:00-9:15 a.m.—Welcome Greetings, Roll Call, Acceptance of Agenda

9:15-9:30 a.m.—Policy Update

9:30-10:40 a.m.—Panel on Institutionalization of Youth in Nursing Homes

10:40-11:05 a.m.—Public Comment on Youth in Nursing Homes

11:05V11:20 a.m.—Break

11:20-12:25 p.m.—Panel on Experiences of Disabled Floridians During/After Recent Natural Disasters

12:25-12:50 p.m.—Public Comment on Experiences in Natural Disasters

12:50-;2:10 p.m.—Lunch Break

2:10—3:10 p.m.—Panel on Accessible Transportation in Florida: Barriers and Innovations

3:10-3:35 p.m.—Public Comment on Accessible Transportation in Florida

3:35 p.m.-Adjourn until January 23 at 9:00 a.m.

Friday, January 23, 2026

9:00-9:10 a.m.—Welcome and Call to Order

9:10-9:20 a.m.—Chairman's Report

9:20-9:40 a.m.—Council Member Reports

9:40-9:55 a.m.—Executive Committee Report

9:55-10:10 a.m.—Legislative and Media Updates

10:10-10:25 a.m.—Break

10:25-10:50 a.m.—Description of Disability Competency Curriculum Project, RFI Responses to Date, and Potential NCD Recommendations

10:50-11:00 p.m.—Council Question and Answer on Project

11:00-11:30—Presentation: A Study of Denials of Florida HCBS Waiver Eligibility

11:30-11:40 a.m.—Council Questions and Answers on Study

11:40-12:00 p.m.—Public Service Award for NCD Council Member Neil Romano

12:00 p.m.—Adjourn the Quarterly Meeting

Public Comment: Public participation during the public comment period provides an opportunity for us to hear from individuals, businesses, providers, educators, parents and advocates. Your comments are important in bringing to the Council's attention the issues and priorities of the disability community.

For the January 22 Council meeting, NCD will have two public comment periods of 25 minutes each. The first on youth institutionalized in nursing homes, and the second on experiences of disabled Floridians in recent natural disasters. Additional information on specifics of the topic is available on NCD's public comment page at https://ncd.gov/public-comment.

The Council will receive comments from in-person commenters first, and time allowing, from Florida residents who attend via Zoom for Government livestream. Comments are also always accepted via email.

To provide public comment during an NCD Council Meeting, NCD requires advanced registration by either signing up to present while registering for the meeting or sending an email to PublicComment@ncd.gov with the subject line “Public Comment” and your name, organization (if applicable), state, and topic of comment in the body of your email.

Deadline for public comment registration is January 20, 2026, 8:00 p.m. EST. Please indicate if you are providing the comment in-person or only submitting via email. All individuals desiring to make public comments are encouraged to read NCD's guidelines for public comment in advance of the meeting at: https://ncd.gov/public-comment.

Comments during this meeting must be specific to youth in nursing homes and experiences in recent natural disasters.

To provide comments by email, please send personal experiences, and/or articles, data, and other research on the following topics to PublicComment@ncd.gov. Your contributions will help strengthen our investigations and provide for a more comprehensive view for federal policymakers.

I. Youth and Younger Adults With Disabilities in Nursing Homes

This project seeks to uncover the drivers of the growing population of youth and younger adults with disabilities living in nursing homes and explore policy solutions that seek to keep youth and younger adults with disabilities in their communities where they can live, learn, and seek employment. Responses to any of the following questions are helpful.

1. What number of people with disabilities ages 21-40 are receiving LTSS in nursing homes? How large is the subset of those under age 21? What are the numbers by state? What are the demographics? What is the average length of stay? What placements were made out of state?

2. What data gaps exist on these questions and how could the Centers for Medicare and Medicaid Services (CMS) improve them? What reporting could HHS or HUD require of federal fund recipients to obtain data on people with disabilities age 40 and under in nursing homes?

3. How many people are estimated to be on waiting lists to transfer out of nursing facilities are ages 21-40 and under 21? What federal and state policies assist in gathering this information and what are the federal and state barriers?

4. Are there existing federal and state policies that have the effect of routing younger people with disabilities into nursing homes? (Please note that NCD is not seeking information on what keeps people with disabilities from leaving nursing facilities as we have well-established research on that topic).

5. What impact has Money Follows the Person had on nursing home diversion for younger people with disabilities? Please provide specific examples to the degree possible. What other programs are successful at diversion of younger people with disabilities from nursing homes?

6. What opportunities are available to younger people with disabilities who reside in nursing homes, for free appropriate public education (FAPE), recreation, community participation? What are the results of unavailability/restricted availability of the activities?

7. How could policymakers specifically address the needs of younger people with disabilities in LTSS and housing policy?

II. Improving the Outcome of People With Disabilities During and After Disasters

This project focuses on how state and local governments execute their emergency management plans; identifies promising practices; and provides resources and recommendations. Comments on any of the following questions are helpful.

1. What elements are lacking in state and local disaster preparation plans that would mitigate the adverse impact of disaster recovery and response on people with disabilities?

2. How do states encourage local emergency management operators to be inclusive of people with disabilities before, during and after disasters?

3. What is FEMA's role and responsibility to ensure people with disabilities needs are included in disaster preparation at the local level?

4. What states have an infrastructure that promotes the inclusivity of people with disabilities?

CONTACT PERSON FOR MORE INFORMATION: Nicholas Sabula, Public Affairs Specialist, NCD, 1331 F Street NW, Suite 850, Washington, DC 20004; 202-272-2004 (V), or nsabula@ncd.gov.

Accommodations: ASL Interpreters will be provided in-room and included during the live streamed meeting, and CART has been arranged for this meeting and will be embedded into the Zoom platform as well as available via streamtext link. The web link to access CART Streamtext: https://www.streamtext.net/player?event=NCD.

If you require additional accommodations, please notify Stacey Brown by sending an email to sbrown@ncd.gov as soon as possible and no later than 48 hours prior to the meeting.

Due to last-minute confirmations or cancellations, NCD may substitute items without advance public notice.

Dated: December 22, 2025.
Nicholas Sabula,
Public Affairs Specialist.

[FR Doc. 2025-23952 Filed 12-22-25; 4:15 pm]

BILLING CODE 8421-02-P